DEPARTMENT OF THE INTERIOR

Bureau of Land Management

[LLWYP06000.LL13100000.DB0000.17X]

Notice of Availability of the Draft Environmental Impact Statement for the Converse County Oil and Gas Project, Converse County, Wyoming

AGENCIES: Bureau of Land Management, Interior.

ACTION: Notice of availability.

SUMMARY: In accordance with the National Environmental Policy Act of 1969, as amended (NEPA), the Bureau of Land Management (BLM) as the lead Federal agency, and the United States Forest Service (USFS), participating as a cooperating agency, have prepared a Draft Environmental Impact Statement (Draft EIS) that evaluates, analyzes, and discloses to the public direct, indirect, and cumulative environmental impacts of a proposal to develop oil and natural gas in Converse County, Wyoming. This notice announces a 45-day public comment period to meet the requirements of NEPA and section 106 of the National Historic Preservation Act.

DATES: To ensure that comments will be considered, the BLM must receive written comments on the Converse County Oil and Gas Project Draft EIS within 45 days following the date the Environmental Protection Agency publishes its Notice of Availability in the Federal Register. The BLM will announce future meetings and any other public involvement activities at least 15 days in advance through public notices, media releases, mailings, and/or at the BLM website http://bit.ly/2oxHxeq.

ADDRESSES: Comments on the Converse County Oil and Gas Project may be submitted by any of the following methods:

• Website: http://bit.ly/2oxHxeq.

• Email: blm_wy_casper_wymail@blm.gov.

• Fax: 307-261-7587.

• Mail or hand delivery: Converse County Oil and Gas Project EIS, BLM Casper Field Office, Attn: Mike Robinson, Project Manager, 2987 Prospector Drive, Casper, WY 82604.

Documents pertinent to this proposal may be examined at the following offices:

• BLM Casper Field Office, 2987 Prospector Drive, Casper, WY 82604;

• USFS Douglas Ranger District Office, 2250 East Richards Street, Douglas, WY 82633; and

• BLM Wyoming State Office, 5353 Yellowstone Road, Cheyenne, WY 82009.

Interested persons may also view the documents online at: http://bit.ly/2oxHxeq.

FOR FURTHER INFORMATION CONTACT: Mike Robinson, Project Manager, telephone: 307-261-7520; address: 2987 Prospector Drive, Casper, WY 82604; email: blm_wy_casper_wymail@blm.gov. Persons who use a telecommunications device for the deaf (TDD) may call the Federal Relay Service (FRS) at 1-800-877-8339 to contact the above person during normal business hours. The FRS is available 24 hours a day, 7 days a week, to leave a message or question with the above individual. You will receive a reply during normal business hours.

SUPPLEMENTARY INFORMATION: An Operator Group (OG) comprised of Anadarko Petroleum Company, Chesapeake Energy Corporation, Devon Energy, EOG Resources, Inc., and SM Energy, proposes to develop oil and gas leases within the Converse County Project Area (CCPA) in Converse County, Wyoming.

The CCPA encompasses approximately 1.5 million acres of land, of which approximately 88,466 surface acres (6 percent of the CCPA) are public lands administered by the BLM and approximately 63,911 surface acres (4 percent of the CCPA) are administered by the USFS. The remaining surface estate consists of approximately 101,012 surface acres (7 percent) administered by the State of Wyoming and approximately 1,247,477 surface acres (83 percent) that are privately owned. The BLM administers approximately 964,525 acres of mineral estate (64 percent) within the CCPA. Split estate lands, lands with private surface and Federal mineral ownership, comprise approximately 812,189 acres of those 964,525 acres (54 percent of the 64 percent) of the Federal mineral ownership of land within the CCPA.

The Draft EIS describes and analyzes the impacts of the OG's Proposed Action (Alternative B) and two alternatives, the No Action Alternative (Alternative A) and Alterative C. Additional alternatives were considered, but eliminated from detailed analysis. All alternatives incorporate best management practices for oil and gas development and other measures necessary to address impacts to air quality, cultural resources, historic trails, public safety, recreational opportunities, threatened and endangered species, socioeconomic, transportation, vegetation, visual resources, water, wildlife habitats including Greater Sage-grouse and Greater Sage-grouse Priority Habitat Management Areas, and other relevant issues. The following is a summary of the alternatives:

1. Alternative A: The No Action Alternative assumes that approval of the OG's proposed Project would be denied and new drilling would continue under approval of the appropriate permitting agency.

2. Alternative B: The Proposed Action Alternative, which is also the Agency Preferred Alternative, consists of the OG's proposal to explore and develop potentially productive subsurface formations underlying the CCPA by drilling up to approximately 5,000 oil and natural gas wells on 1,500 single and multi-well pads within the CCPA over a period of 10 years. The production life of each well is estimated to be approximately 30 years. The OG would develop the CCPA using directional, vertical, horizontal, and other drilling techniques, as well as to develop infrastructure to support oil and gas production in the CCPA, including: Well pads, roads, pipelines, power lines, compressor stations, electrical substations, and ancillary facilities such as water supply wells and water disposal facilities. The total estimated new surface disturbance for development under Alternative B would be approximately 52,667 acres. This alternative includes requesting full-season exceptions, excluding USFS Administered lands (i.e. year-round drilling), to multiple timing limitation stipulations which serve to protect several wildlife species in the project area.

3. Alternative C: This alternative would reduce the surface disturbance and related impacts from oil and gas development based on assumptions that a higher average number of wells would be drilled from each pad. Specifically, 55 percent of well pads in the CCPA would have up to 4 wells, 35 percent of well pads in the CCPA would have 5 to 8 wells, and 10 percent of well pads in the CCPA would have 9 to 16 wells. This would provide for drilling the same number of wells (5,000) under the same drilling rate (500 wells per year) as Alternative B. Furthermore, this would reduce the total number of well pads to 938, which would reduce the miles of access roads, gas gathering pipelines, water pipelines, and overhead electrical lines needed, as well as the acreage encumbered by the proposed project. The total estimated new surface disturbance for development under Alternative C would be approximately 37,267 acres. This alternative would require that multiple timing stipulations be applied as outlined in the BLM RMP and the USFS LRMP, thus not allowing for year-round drilling.

The BLM NEPA Handbook (H-1790-1) calls for expression of the BLM's preferred alternative in the Draft EIS if one exists (BLM 2008c). The BLM selected Alternative B, the Proposed Action, as a preferred alternative for the Converse County Oil and Gas Development Project. The BLM believes that the Proposed Action has the necessary elements that would address the purpose and need for the Draft EIS and will review public comments on the Draft before the preferred alternative is identified in the Final EIS.

The No Action Alternative (Alternative A) and each of the action alternatives (Alternative B and C) are discussed in terms of alternative-specific activities and schedule, design features, and surface disturbance summaries. Alternatives considered, but eliminated from detailed analysis also are discussed. The analysis of each alternative focuses on the new disturbance that would occur under each alternative and would be in addition to existing and permitted disturbance.

The Notice of Intent to prepare an EIS was published in the Federal Register on May 16, 2014 (79 FR 28538). Key issues identified during scoping included: Potential impacts on private landowners over Federal mineral estate; socioeconomic impacts on local communities and residents, including new jobs and economic activity in the community, as well as increased noise, traffic, and population growth; potential impacts on air quality and climate change; potential impacts to groundwater and surface water supply and quality; potential impacts to historic trails; enforcement of reclamation and other mitigation on non-Federal lands; impacts to area recreation, grazing, and hunting; the potential to impact Greater Sage-grouse, migratory birds, big game and other wildlife; and adequate analysis of cumulative impacts.

The public is encouraged to comment on any and all portions of the document. The BLM and the USFS ask that those submitting comments make them as specific as possible with reference to chapters, page numbers, and paragraphs in the Draft EIS document.

Before including your address, phone number, email address, or other personal identifying information in your comment, you should be aware that your entire comment—including your personal identifying information—may be made publicly available at any time. While you can ask us in your comment to withhold your personal identifying information from public review, we cannot guarantee that we will be able to do so. Comments that contain only opinions or preferences will not receive a formal response; however, they will be considered and included as part of the BLM and the USFS decision-making process. The most useful comments are those that include new technical or scientific information, identification of data gaps in the impact analysis, or technical or scientific rationale for opinions or preference.

Authority: 40 CFR 1506.6, 40 CFR 1506.10)

Mary Jo Rugwell,
State Director, Wyoming.

[FR Doc. 2018-01320 Filed 1-25-18; 8:45 am]

BILLING CODE 4310-22-P